DEPARTMENT OF TRANSPORTATION

Pipeline and Hazardous Materials Safety Administration

[Docket ID PHMSA-2009-0026]

Pipeline Safety: Workshop on Internal Corrosion in Hazardous Liquid Pipelines

AGENCY: Pipeline and Hazardous Materials Safety Administration (PHMSA), DOT.

ACTION: Notice of Workshop.

SUMMARY: The Pipeline, Inspection, Protection, Enforcement, and Safety Act of 2006 (PIPES), Public Law 109-468, Section 22, requires PHMSA to review the internal corrosion control regulations to determine if the regulations are currently adequate to ensure that the pipeline facilities subject to the regulations will not present a hazard to public safety or the environment. As a follow-up to this review and our report to Congress, PHMSA is sponsoring a Workshop on Internal Corrosion in Hazardous Liquid Pipelines to allow stakeholders of the pipeline safety community to learn about and discuss PHMSA regulations, industry standards and practices, current evaluation practices and methods to assure pipeline safety.

DATES: The workshop will be held on March 26, 2009. Name badge pick-up and on-site registration will be available starting at 7:30 a.m. with the agenda taking place from 8 a.m. until approximately 5 p.m. Refer to the meeting Web site for updated agenda and times: https://primis.phmsa.dot.gov/meetings/Mtg57.mtg. Please note that the workshop will not be webcast. However, presentations will be available on the meeting Web site within 30 days following the workshop.

ADDRESSES: The workshop will be held at the OMNI Hotel at CNN Center, 100 CNN Center, Atlanta, GA 30303. The meeting room will be posted at the hotel on the day of the workshop.

FOR FURTHER INFORMATION CONTACT: Joshua Johnson at (816) 329-3825, or by e-mail at joshua.johnson@dot.gov.

SUPPLEMENTARY INFORMATION: Registration: Members of the public may attend this free workshop. To help assure that adequate space is provided, all attendees are encouraged to register for the workshop at http://primis.phmsa.dot.gov/meetings/Mtg57.mtg.

Comments: Members of the public may also submit written comments, either before or after the workshop. Comments should reference Docket ID PHMSA-09-0026. Comments may be submitted in the following ways:

• E-Gov Web Site: http://www.regulations.gov. This site allows the public to enter comments on any Federal Register notice issued by any agency. Follow the instructions for submitting comments.

• Fax: 1-202-493-2251.

• Mail: Docket Management System, U.S. Department of Transportation, 1200 New Jersey Avenue, SE., Room W12-140, Washington, DC 20590.

• Hand Delivery: Docket Management System, Room W12-140, on the ground floor of the West Building, 1200 New Jersey Avenue, SE., Washington, DC between 9 a.m. and 5 p.m., Monday through Friday, except Federal holidays.

Instructions: Identify the Docket ID at the beginning of your comments. If you submit your comments by mail, submit two copies. If you wish to receive confirmation that PHMSA has received your comments, include a self-addressed stamped postcard. Internet users may submit comments at http://www.regulations.gov. Note: Comments will be posted without changes or edits to http://www.regulations.gov including any personal information provided. Please see the Privacy Act heading in the Regulatory Analyses and Notices section of the SUPPLEMENTARY INFORMATION for additional information.

Privacy Act Statement: Anyone may search the electronic form of all comments received for any of our dockets. You may review DOT's complete Privacy Act Statement in the Federal Register published April 11, 2000 (65 FR 19477).

Information on Services for Individuals with Disabilities: For information on facilities or services for individuals with disabilities, or to request special assistance at the meeting, please contact Joshua Johnson by March 6, 2009.

Issue Description: Pipeline safety regulations at 49 CFR 195.579(a) require operators to determine if the hazardous liquids they are transporting could corrode the pipeline and, if so, take adequate steps to mitigate that corrosion potential. PHMSA emphasizes that, while the workshop will involve issues related to Part 195, some of the technical discussions on research and methods are of relevance to natural gas pipeline operators. For this reason, PHMSA also encourages natural gas pipeline operators to attend the meeting.

Although the base commodity may not be corrosive, all hazardous liquids regulated under Part 195 could be corrosive during some phase of the production and/or manufacturing process when contaminants could be introduced. Often, the only barrier separating untreated product or corrosive materials from a pipeline transporting processed/refined products is the processing plant or refinery. These plants occasionally undergo upset conditions where all or a portion of the untreated product may bypass the treatment process and enter the downstream piping. During those upset conditions, corrosive materials might be introduced into the pipeline and could create a corrosive condition.

Pipeline operators who previously concluded that an internal corrosion control program was not needed may need to critically re-analyze operating conditions and internal corrosion risk factors and periodically monitor, or otherwise reconfirm, that the pipeline is free of corrosive materials. Operators should perform a periodic system analysis and document the results, confirming that they properly analyzed the pipeline for possible internal corrosion precursors. In addition, operators should also conduct periodic monitoring for changes that might increase this risk and identify possible sites of selective internal corrosion risks.

The workshop is intended to allow representatives of the pipeline industry, regulatory agencies, the public, and other stakeholders to discuss the implications of these results and the potential need for further research and/or regulatory changes.

Preliminary Workshop Agenda

The workshop will include:

(1) Overview of current PHMSA regulations and data on internal corrosion.

(2) Overview of industry internal corrosion control documents.

(3) Review of current industry practices for evaluating, monitoring, and management of internal corrosion.

Refer to the meeting Web site for a more detailed agenda: http://primis.phmsa.dot.gov/meetings/Mtg57.mtg

PHMSA publishes requirements for the mitigation of internal corrosion at 49 CFR Part 195 for hazardous liquids pipelines. PHMSA and other presenters plan to discuss the process of analyzing a pipeline system to determine whether internal corrosion is a threat and how to manage the threat if it exists. PHMSA will consider the discussion at the workshop and comments submitted to the docket in determining whether changes to regulatory requirements are needed and what those changes should be.

Issued in Washington, DC, on February 11, 2009.
Jeffrey D. Wiese,
Associate Administrator for Pipeline Safety.

[FR Doc. E9-3487 Filed 2-18-09; 8:45 am]

BILLING CODE 4910-60-P